INTERNATIONAL TRADE COMMISSION

[Investigations Nos. 731-TA-965, 971-972, 979, and 981 (Final)]

Certain Cold-Rolled Steel Products From Australia, India, Japan, Sweden, and Thailand

Determinations

On the basis of the record ¹ developed in the subject investigations, the United States International Trade Commission determines,² pursuant to section 735(b) of the Tariff Act of 1930 (the Act),³ that an industry in the United States is not materially injured or threatened with material injury, and the establishment of an industry in the United States is not materially retarded, by reason of imports from Australia, India, Japan, Sweden, and Thailand of certain cold-rolled steel products, provided for in headings 7209, 7210, 7211, 7212, 7225, and 7226 of the Harmonized Tariff Schedule of the United States, that have been found by the Department of Commerce to be sold in the United States at less than fair value (LTFV).

¹ The record is defined in sec. 207.2(f) of the Commission's Rules of Practice and Procedure (19 CFR 207.2(f)).

² Commissioner Lynn M. Bragg dissenting.

³ 19 U.S.C. 1673d(b).

Background

The Commission instituted these investigations effective September 28, 2001, following receipt of petitions filed with the Commission and Commerce by Bethlehem Steel Corporation, Bethlehem, PA; LTV Steel Co., Inc., Cleveland, OH; National Steel Corporation, Mishawaka, IN; ⁴ Nucor Corporation, Charlotte, NC; Steel Dynamics Inc., Butler, IN; United States Steel LLC, Pittsburgh, PA; WCI Steel, Inc., Warren, OH; and Weirton Steel Corporation, Weirton, WV.

⁴ National Steel Corporation is not a petitioner with respect to Japan.

The final phase of the investigations was scheduled by the Commission following notification of preliminary determinations by Commerce that imports of certain cold-rolled steel products from Australia, India, Japan, Sweden, and Thailand were being sold at LTFV within the meaning of section 733(b) of the Act.⁵ Notice of the scheduling of the final phase of the Commission's investigations and of a public hearing to be held in connection therewith was given by posting copies of the notice in the Office of the Secretary, U.S. International Trade Commission, Washington, DC, and by publishing the notice in the Federal Register of June 3, 2002 (67 FR 38291). The hearing was held in Washington, DC, on July 18, 2002, and all persons who requested the opportunity were permitted to appear in person or by counsel.

⁵ 19 U.S.C. 1673b(b).

The Commission transmitted its determinations in these investigations to the Secretary of Commerce on September 5, 2002. The views of the Commission are contained in USITC Publication 3536 (September 2002), entitled Certain Cold-Rolled Steel Products from Australia, India, Japan, Sweden, and Thailand: Investigations Nos. 731-TA-965, 971-972, 979, and 981 (Final).

By order of the Commission.
Issued: September 12, 2002.
Marilyn R. Abbott,
Secretary to the Commission.

[FR Doc. 02-23606 Filed 9-16-02; 8:45 am]

BILLING CODE 7020-02-P